U.S. AGENCY FOR INTERNATIONAL DEVELOPMENT

Notice of Public Information Collection Requirements Submitted to OMB for Review; “Correction”

The United State Agency for International Development (USAID) published a New Information Collection to OMB for review and clearance under the Paper work Reduction Act of 1995, Public Law 104-13 notice in the Federal Register on May 1, 2014 (79 FR 24667). OIRA's email address and the complete physical address were omitted from the published notice on May 1, 2014. As a result USAID is issuing this notice to correct and extend the due date to June 16, 2014 to allow the public the opportunity to provide any comments.

Correction

In the Federal Register of May 1, 2014, in FR Doc. 2014-09935, on page 24667, in first paragraph, third sentence, correct the SUMMARY sentence to read:

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), 725 17th Street NW., Washington, DC 20503 or email address: OIRA Submission@OMB.eop.gov. Copies of submission may be obtained by calling (202) 712-5007.

Dated: May 22, 2014.
Lynn P. Winston,
Chief, Bureau for Management, Office of Management Services, Information and Records Division, US Agency for International Development.

[FR Doc. 2014-12445 Filed 5-30-14; 8:45 am]

BILLING CODE P